SECURITIES AND EXCHANGE COMMISSION

In the Matter of Valentine Beauty Inc., File No. 500-1; Order of Suspension of Trading

April 26, 2016.

It appears to the Securities and Exchange Commission that there is a lack of current and accurate information concerning the securities of Valentine Beauty Inc. (“VLBI”) because of concerns regarding the accuracy and adequacy of information in the marketplace and suspicious market activity relating to VLBI common stock. VLBI is a Nevada corporation with its principal place of business located in Sunrise, Florida. Its stock is quoted on OTC Link, operated by OTC Markets Group Inc., under the ticker: VLBI.

The Commission is of the opinion that the public interest and the protection of investors require a suspension of trading in the securities of the above-listed company.

THEREFORE, IT IS ORDERED, pursuant to Section 12(k) of the Securities Exchange Act of 1934, that trading in the securities of the above-listed company is suspended for the period from 9:30 a.m. EDT on April 26, 2016, through 11:59 p.m. EDT on May 9, 2016.

By the Commission.
Brent J. Fields,
Secretary.

[FR Doc. 2016-10031 Filed 4-26-16; 11:15 am]

BILLING CODE 8011-01-P